DEPARTMENT OF DEFENSE

Office of the Secretary

[Transmittal No. 23-40]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-40, Policy Justification, and Sensitivity of Technology.

Dated: November 1, 2024.
Stephanie J. Bost,
Alternate OSD Federal Register Liaison Officer, Department of Defense.

BILLING CODE 6001-FR-P

BILLING CODE 6001-FR-C

Transmittal No. 23-40

Notice of Proposed Issuance of Letter of Offer Pursuant to Section 36(b)(1) of the Arms Export Control Act, as amended

(i) Prospective Purchaser: Government of Oman

(ii) Total Estimated Value:

Major Defense Equipment * | $60 million
Other | $10 million
Total | $70 million

Funding Source: National Funds

(iii) Description and Quantity or Quantities of Articles or Services under Consideration for Purchase:

Major Defense Equipment (MDE):

Three hundred one (301) Tube-Launched, Optically-Tracked, Wireless-Guided (TOW) 2B, Radio Frequency (RF) Missiles (BGM-71F-7-RF) (includes 7 “Fly-to-Buy” Missiles)

Non-MDE:

Also included are U.S. Government and contractor technical, program, logistics, and engineering support services, and other related elements of logistics and program support.

(iv) Military Department: Army (MU-B-UKV)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 3, 2023

* As defined in Section 47(6) of the Arms Export Control Act.

POLICY JUSTIFICATION

Oman—TOW 2B Radio Frequency Missiles (BGM-71F-7-RF) and Support

The Government of Oman has requested to buy three hundred one (301) Tube-Launched, Optically-Tracked, Wireless-Guided (TOW) 2B, Radio Frequency (RF) Missiles (BGM-71F-7-RF) (includes 7 “Fly-to-Buy” Missiles). Also included are U.S. Government and contractor technical, program, logistics, and engineering support services, and other related elements of logistics and program support. The estimated total cost is $70 million.

This proposed sale will support the foreign policy and national security of the United States by helping to improve the security of a friendly country that continues to be an important force for political stability and economic progress in the Middle East.

The proposed sale will improve the Royal Army of Oman's capability to meet current and future threats by enhancing the strength of its homeland defense. Oman will have no difficulty absorbing this equipment and services into its armed forces.

The proposed sale of this equipment and support will not alter the basic military balance in the region.

The principal contractor will be Raytheon Missiles & Defense, Tucson, Arizona. There are no known offset agreements proposed in connection with this potential sale.

Implementation of this proposed sale will not require the assignment of any additional U.S. Government or U.S. contractor representatives to Oman.

There will be no adverse impact on U.S. defense readiness as a result of this proposed sale.

Transmittal No. 23-40

Notice of Proposed Issuance of Letter of Offer Pursuant to Section 36(b)(1) of the Arms Export Control Act

Annex

Item No. vii

(vii) Sensitivity of Technology:

1. The Tube-Launched, Optically-Tracked, Wireless-Guided (TOW) 2B Radio Frequency (RF) Missile (BGM-71F-7-RF) is a top attack missile designed to defeat armored vehicles, reinforced urban structures, field fortifications and other such targets. TOW missiles are fired from a variety of TOW launchers used by the U.S. Army, USMC, and non-U.S. forces. The TOW 2B RF missile can be launched from the same launcher as the wire-guided TOW 2B missile without modification to the launcher. The TOW 2B missile (both wire and RF-guided) contains two tracker beacons (Xenon and thermal) for the launcher to track and guide the missile in flight. Guidance commands from the launcher are provided to the missile by the RF link contained within the missile case.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Oman can provide substantially the same degree of protection for the sensitive technology being released as the U.S. Government. This sale is necessary in furtherance of the U.S. foreign policy and national security objectives outlined in the Policy Justification.

5. All defense articles and services listed in this transmittal have been authorized for release and export to the Government of Oman.

[FR Doc. 2024-25825 Filed 11-5-24; 8:45 am]

BILLING CODE 6001-FR-P